DEPARTMENT OF THE INTERIOR

National Park Service

Notice of Inventory Completion: Syracuse University, Syracuse, NY

AGENCY: National Park Service, Interior.

ACTION: Notice.

Notice is here given in accordance with the Native American Graves Protection and Repatriation Act (NAGPRA), 25 U.S.C. 3003, of the completion of an inventory of human remains and associated funerary objects in the possession of Syracuse University, Syracuse, NY. The human remains and associated funerary objects were removed from the Strato's Grove site, Onondaga County, NY.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Syracuse University professional staff in consultation with representatives of the Onondaga Nation of New York.

In 1967, human remains representing a minimum of two individuals were removed from Strato's Grove site (also known as Strato's Grave site), Onondaga County, NY, during excavations by James Tuck. Tuck published results from the excavation in his book, Onondaga Iroquois Prehistory (Tuck 1971). The 19 associated funerary objects are 1 lot of bird bone tube beads; 1 lot of copper fragments, shell, and wood; 1 gun flint; 1 spent lead shot; 1 lot of charcoal; 1 copper pan; 2 copper hawks bells; 1 lot of wood; 1 lot of copper; 1 lot of wooden “cradle board fragments”; 1 animal bone bead; 1 iron cutlery knife; 1 string with copper; 1 lot of raspberry seeds; 1 iron; 1 nail; 1 lot of “kettle contents”; and 1 lot of iron and copper fragments (surface finds).

In 2002, an examination of the collections found two finger bones in a bag labeled “metal ring.” The human remains were determined to be from a historic period Onondaga burial site. These human remains represent small fragments and do not correspond with the specific burials discussed in James Tuck's book (1971:190). The human remains and associated funerary objects are determined to be affiliated with the present-day descendants of the Onondaga represented by the Onondaga Nation of New York.

Officials of Syracuse University have determined that, pursuant to 25 U.S.C. 3001 (9-10), the human remains described above represent the physical remains of two individuals of Native American ancestry. Officials of Syracuse University also have determined that, pursuant to 25 U.S.C. 3001 (2), the 19 objects and lots of objects described above are reasonably believed to have been placed with or near individual human remains at the time of death or later as part of the death rite or ceremony. Lastly, officials of Syracuse University have determined that, pursuant to 25 U.S.C. 3001 (2), there is a relationship of shared group identity that can be reasonably traced between the Native American human remains and associated funerary objects and the Onondaga Nation of New York.

Representatives of any other Indian tribe that believes itself to be culturally affiliated with the human remains should contact Douglas Armstrong, Archaeological Collections Facility, Anthropology Department, 209 Maxwell Hall, Syracuse University, Syracuse, NY 13244, telephone (315) 443-2405, before October 22, 2009. Repatriation of the human remains to the Onondaga Nation of New York may proceed after that date if no additional claimants come forward.

The Syracuse University is responsible for notifying the Onondaga Nation of New York that this notice has been published.

Dated: September 8, 2009
Sherry Hutt,
Manager, National NAGPRA Program.

[FR Doc. E9-22779 Filed 9-21-09; 8:45 am]

BILLING CODE 4312-50-S